DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995 (44 U.S.C. 3506(c)(2)(A)), this notice seeks comments concerning the proposed collection of information.

SUPPLEMENTARY INFORMATION: The National Flood Insurance Program (NFIP) plays a critical role in FEMA's mission for reducing flood losses. Through the NFIP, communities must adopt and enforce floodplain management ordinances to reduce future flood losses. In exchange, FEMA's NFIP makes federally backed flood insurance available to property owners in these participating communities. According to the Flood Disaster Protection Act of 1973, Congress Findings and Declaration of Purpose, Section 2(a)(6), Congress finds that it is in the public interest for persons already living in flood prone areas to have an opportunity to purchase flood insurance and access to more adequate limits of coverage, so that they will be indemnified for their losses in the event of future flood disasters. In accordance with this finding, FEMA attempts to fulfill the requirement of The Flood Disaster Protection Act of 1973 by educating and assisting potential flood insurance purchasers and agents who voluntarily contact the National Flood Insurance Program Call Center.

Collection of Information

Title: National Flood Insurance Program Call Center and Agent Referral Enrollment Program.

Type of Information Collection: Revision of a currently approved collection.

OMB Number: 1660-0059.

Form Numbers: FF 81-95.

Abstract: The National Flood Insurance Program Call Center and Agent Referral Enrollment Program are part of the overall FloodSmart marketing campaign aimed at increasing the number of net policies by 5 percent annually. The center's main objectives are: (1) To respond to consumers seeking information on the flood insurance program (including finding an insurance agent), (2) to provide a mechanism for insurance agents interested in selling flood insurance to voluntarily enroll in the agent referral program, and (3) to facilitate the purchasing process by connecting buyers and sellers together.

Affected Public: Individuals or Households, and Business or Other For-Profit.

Estimated Total Annual Burden Hours: 3,750 hours.

| No. of respondents (A) | Frequency of response (B) | Hours per response (C) | Annual burden hours (AxBxC)
Callers To The Call Center | 69,000 | 1 | .05 | 3,450
Agent Referral Enrollment Form—FEMA Form 81-95 | 3,000 | 1 | .07 | 210
Outbound Calls To Agents | 1,200 | 1 | .05 | 60
Outbound Calls To Consumers | 600 | 1 | .05 | 30
Total | 73,800 | 1 |  | 3,750

Estimated Cost: $ 3,960.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management, Information Resources Management Branch, Information Technology Services Division, Federal Emergency Management Agency, Emergency Preparedness and Response Directorate, Department of Homeland Security, 500 C Street, SW., Room 316, Washington, DC 20472.

FOR FURTHER INFORMATION CONTACT: Contact Carolyn Goss, Program Analyst, Mitigation Division, Risk Communication Branch, 202-646-3468 for additional information. You may contact Ms. Anderson for copies of the proposed collection of information at facsimile number (202) 646-3347 or email address: FEMA-Information-Collections@dhs.gov.

Dated: January 25, 2005.
Edward W. Kernan,
Division Director, Information Resources Management Division, Information Technology Services Directorate.

[FR Doc. 05-3133 Filed 2-17-05; 8:45 am]

BILLING CODE 6178-01ndash;P